DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces the intention of the Foreign Agricultural Service (FAS) to request an extension from the Office of Management and Budget (OMB) of a currently approved information collection for the United States Department of Agriculture (USDA) Local and Regional Food Aid Procurement Program.

DATES: Comments on this notice must be received by March 14, 2023.

ADDRESSES: You may send comments, identified by OMB Control Number 0551-0046, by any of the following methods:

• Federal eRulemaking Portal: http://www.regulations.gov. This portal enables respondents to enter short comments or attach a file containing lengthier comments.

• Email: PPDED@usda.gov. Include OMB Control Number 0551-0046 in the subject line of the message.

• Mail, Courier, or Hand Delivery: Shane Danielson, U.S. Department of Agriculture, Foreign Agricultural Service, 1400 Independence Avenue SW, Room 6648, Mailstop 1034, Washington, DC 20250.

Instructions: All submissions received must include the agency name and OMB Control Number for this notice.

FOR FURTHER INFORMATION CONTACT: Shane Danielson, Senior Director, International Food Assistance Division, Foreign Agricultural Service, U.S. Department of Agriculture, Room 6648, Mailstop 1034, Washington, DC 20250-1034, telephone: (202) 720-1230, email: PPDED@usda.gov.

SUPPLEMENTARY INFORMATION:

Title: USDA Local and Regional Food Aid Procurement Program.

OMB Number: 0551-0046.

Expiration Date of Approval: June 30, 2023.

Type of Request: Extension of a currently approved information collection.

Abstract: Under the USDA Local and Regional Food Aid Procurement Program, information will be gathered from applicants desiring to receive grants or enter into cooperative agreements under the program to determine the viability of requests for resources to implement activities in foreign countries. Recipients of grants or cooperative agreements under the program must submit performance and financial reports until funds provided by FAS and commodities purchased with such funds are utilized. Documents are used to develop effective grant or cooperative agreements and assure that statutory requirements and program objectives are met.

Estimate of Burden: The public reporting burden for each respondent resulting from information collection under the USDA Local and Regional Food Aid Procurement Program varies in direct relation to the number and type of agreements entered into by such respondent. The estimated average reporting burden for the USDA Local and Regional Food Aid Procurement Program is 78 hours per response.

Type of Respondents: Private voluntary organizations, cooperatives, and intergovernmental organizations.

Estimated Number of Respondents: 22 per annum.

Estimated Number of Responses per Respondent: 17 per annum.

Estimated Total Annual Burden of Respondents: 29,172 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information, including the validity of the assumptions made; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for Office of Management and Budget approval.

Persons with disabilities who require an alternative means for communication of information (Braille, large print, audiotape, etc.) should contact RARequest@usda.gov.

Daniel Whitley,
Administrator, Foreign Agricultural Service.

[FR Doc. 2023-00596 Filed 1-12-23; 8:45 am]

BILLING CODE 3410-10-P